DEPARTMENT OF TRANSPORTATION

Federal Aviation Administration

14 CFR Part 39

[Docket No. 2002-NE-03-AD; Amendment 39-12883; AD 2002-19-03]

RIN 2120-AA64

Airworthiness Directives; Textron Lycoming IO-540, LTIO-540 and TIO-540 Series Reciprocating Engines

AGENCY: Federal Aviation Administration, DOT.

ACTION: Final rule, request for comments.

SUMMARY: This amendment supersedes emergency airworthiness directive (AD) 2002-17-53 that was sent previously to all known U.S. owners and operators of Textron Lycoming LTIO-540 and TIO-540 series engines, rated at 300 horsepower (HP) or higher. That action requires, before further flight, replacing certain serial-numbered crankshafts that were hammer forged with crankshafts that were press forged. That AD was prompted by reports of crankshaft failures in LTIO-540 and TIO-540 engines, rated at 300 HP or higher. This amendment expands the suspect population of engines to include engines with crankshafts that were manufactured between March 1997 and the present and all IO-540 engines with crankshafts that were manufactured between March 1997 and the present that have been modified by supplemental type certificate (STC) by installing a turbocharger system. The actions specified by this AD are intended to prevent failure of the crankshaft, which could result in total engine power loss, in-flight engine failure and possible forced landing.

DATES: Effective September 20, 2002.

The incorporation by reference of certain publications listed in the rule is approved by the Director of the Federal Register as of September 20, 2002.

Comments for inclusion in the Rules Docket must be received on or before November 19, 2002.

ADDRESSES: Submit comments in triplicate to the Federal Aviation Administration (FAA), New England Region, Office of the Regional Counsel, Attention: Rules Docket No. 2002-NE-03-AD, 12 New England Executive Park, Burlington, MA 01803-5299. Comments may be inspected at this location, by appointment, between 8 a.m. and 4:30 p.m., Monday through Friday, except Federal holidays. Comments may also be sent via the Internet using the following address: “9-ane-adcomment@faa.gov”. Comments sent via the Internet must contain the docket number in the subject line.

FOR FURTHER INFORMATION CONTACT: Rocco Viselli or Norm Perenson, Aerospace Engineer, New York Aircraft Certification Office, FAA, Engine and Propeller Directorate, 10 Fifth Street, Third Floor, Valley Stream, NY 11581-1200; telephone (516) 256-7531 or (516) 256-7537; fax (516) 568-2716.

SUPPLEMENTARY INFORMATION: On August 16, 2002, the FAA issued emergency AD 2002-17-53, applicable to Textron Lycoming LTIO-540 and TIO-540 series engines, rated at 300 HP or higher, to supersede emergency AD 2002-04-51 issued on February 11, 2002. AD 2002-17-53 requires replacing certain crankshafts that were manufactured using a hammer-forged process with crankshafts that were manufactured using a press-forged process. That action was prompted by reports of 17 crankshaft failures in LTIO-540 and TIO-540 engines, rated at 300 HP or higher, which were assembled with certain crankshafts that were manufactured using a hammer-forged process. The FAA is continuing the investigation into the cause of the crankshaft failures, and further regulatory action may follow. This action is prompted by an additional crankshaft failure that was outside the population of crankshafts covered by AD 2002-17-53. This AD requires the same replacement of certain crankshafts before further flight, and includes material testing of certain crankshafts manufactured between March 1997 and the present. This AD also expands the applicability to include all IO-540 engines with crankshafts that were manufactured between March 1997 and the present that have been modified by STC by installing a turbocharger system. This condition, if not corrected, could result in crankshaft failure, which could result in total engine power loss, in-flight engine failure and possible forced landing.

Manufacturer's Service Information

The FAA has reviewed the technical contents of Lycoming Mandatory Service Bulletin (MSB) No. 552, dated August 16, 2002, that provide tables of the affected engine and crankshaft serial numbers (SN's).

FAA's Determination of an Unsafe Condition and Required Actions

Since an unsafe condition has been identified that is likely to exist or develop on other Textron Lycoming LTIO-540 and TIO-540 engines, rated at 300 HP or higher, and on IO-540 engines that have been modified by STC by installing a turbocharger system with certain crankshafts installed, this AD requires removal of certain crankshafts before further flight and material testing of certain other crankshafts.

Immediate Adoption of This AD

Since it was found that immediate corrective action was required, notice and opportunity for prior public comment thereon were impracticable and contrary to the public interest, and good cause existed to make the AD effective immediately on August 16, 2002, to all known U.S. owners and operators of Textron Lycoming LTIO-540 and TIO-540 engines, rated at 300 HP or higher. These conditions still exist, and the AD is hereby published in the Federal Register as an amendment to Section 39.13 of part 39 of the Federal Aviation Regulations (14 CFR part 39) to make it effective to all persons.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this notice must submit a self-addressed, stamped postcard on which the following statement is made: “Comments to Docket No. 2002-NE-03-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-19-03 Textron Lycoming: Amendment 39-12883. Docket No. 2002-NE-03-AD. Supersedes Emergency AD 2002-17-53.

Applicability

This AD is applicable to all Textron Lycoming LTIO-540 and TIO-540 engines, rated at 300 horsepower (HP) or greater and all IO-540 engines, rated at any HP, that have been modified by supplemental type certificate (STC) listed in Table 1 of this AD, by installing a turbocharger system. These engines are used on, but not limited to Piper Navajo (PA 31, PA 31-350, and PA 31-325), Piper Saratoga (PA 32-301T, PA 32R-301T), Piper Aerostar (PA 60-700P), Piper Malibu Mirage (PA 46-350P), Piper Mojave (PA 31P-350) Appalachian Aircraft Corporation Gavilan (EL-1), and Cessna T-206 airplanes.Table 1 follows:

Table 1.—List of STC Numbers
SA000214DE | SA00356DE | SA01925AT | SA09650SC
SA469NE | SA2062WE | SA2118NM | SE2122WE
SA2123NM | SA257CE | SA2657WE | SA2082WE
SA305SO | SA3513WE | SA3719SW | SA385WE
SA4942NM | SA529WE | SA530WE | SA539WE
SA5699NM | SA811WE | SA840WE | SA909WE
SA978WE | SE00357DE | SE01949AT | SE1657NM
SE978NM | SE17WE | SE21WE | SE22WE
SE4157NM | SE5869SW | SE40WE | SE60WE
SE6WE | SE7734SW | SE81WE | SA01925AT
SA1648NM | SA4156NM | SA1747CE | SE4941NM
SA2656WE | SA000214DE |  |

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance

Compliance with this AD is required as indicated unless already done.

To prevent crankshaft failure, which could result in total engine power loss, in-flight engine failure and possible forced landing, do the following:

LTIO-540 Engines, TIO-540 Engines, Rated at 300 HP or Greater

(a) If your engine SN is listed in Table 1 of Lycoming Mandatory Service Bulletin (MSB) No. 552, dated August 16, 2002, remove the crankshaft before further flight.

(b) If your engine SN is listed in Table 2 of this AD, do the following; Table 2 follows:

(1) Contact Lycoming, 652 Oliver Street, Williamsport, PA 17701, U.S.A.; telephone (570) 323-6181, within 10 hours time-in-service (TIS) to arrange for a crankshaft material test.

(2) Operation of the engine beyond 10 hours TIS after the effective date of this AD or while the material is being tested is not permitted.

(3) If your crankshaft fails the material testing, remove the crankshaft before further flight.

(4) If your crankshaft passes the material testing, the crankshaft may be returned to service.

(c) If your engine SN is listed in Table 3 of this AD, do the following; Table 3 follows:

(1) Contact Lycoming, 652 Oliver Street, Williamsport, PA 17701, U.S.A.; telephone (570) 323-6181, contact Lycoming, 652 Oliver Street, Williamsport, PA 17701, U.S.A.; telephone (570) 323-6181 within 50 hours time-in-service (TIS) or 6 months after the effective date of this AD, whichever occurs earlier, to arrange for a crankshaft material test.

(2) Operation of the engine beyond 50 hours TIS or 6 months after the effective date of this AD, whichever occurs earlier, or while the material is being tested is not permitted.

(3) If your crankshaft fails the material testing, remove the crankshaft before further flight.

(4) If your crankshaft passes the material testing, the crankshaft may be returned to service.

IO-540 Engines Modified by STC by Installing a Turbocharger System and All Engines That Have Been Overhauled

(d) If your engine was manufactured, overhauled or had the crankshaft replaced after March 1, 1997, and your engine SN is not covered in paragraphs (a), (b), or (c) of this AD, do the following:

(1) Determine the SN of your crankshaft.

(2) If your crankshaft SN is listed in Table 2 of Lycoming MSB 552, dated August 16, 2002, remove the crankshaft before further flight.

(3) If your crankshaft SN is listed in Table 4 of this AD, do the following; Table 4 follows:

(i) Contact Lycoming, 652 Oliver Street, Williamsport, PA 17701, U.S.A.; telephone (570) 323-6181, within 10 hours time-in-service (TIS) to arrange for a crankshaft material test.

(ii) Operation of the engine beyond 10 hours TIS after the effective date of this AD or while the material is being tested is not permitted.

(iii) If your crankshaft fails the material testing, remove the crankshaft before further flight.

(iv) If your crankshaft passes the material testing, the crankshaft may be returned to service.

(4) If your crankshaft SN is listed in Table 5 of this AD, do the following; Table 5 follows:

BILLING CODE 4910-13-C

(i) Contact Lycoming, 652 Oliver Street, Williamsport, PA 17701, U.S.A.; telephone (570) 323-6181, contact Lycoming, 652 Oliver Street, Williamsport, PA 17701, U.S.A.; telephone (570) 323-6181 within 50 hours time-in-service (TIS) or 6 months after the effective date of this AD, whichever occurs earlier, to arrange for a crankshaft material test.

(ii) Operation of the engine beyond 50 hours TIS or 6 months after the effective date of this AD, whichever occurs earlier, or while the material is being tested is not permitted.

(iii) If your crankshaft fails the material testing, remove the crankshaft before further flight.

(iv) If your crankshaft passes the material testing, the crankshaft may be returned to service.

Disposition of Crankshafts That Have Passed the Material Test

(e) A crankshaft that has passed the Lycoming material testing may be returned to service.

Disposition of Crankshafts That Have Failed the Material Test

(f) After the effective date of this AD, do not install in any engine, any crankshaft that has failed the material test.

Denial of Alternative Methods of Compliance

(g) An alternative method of compliance to perform material testing on crankshafts listed by SN in Table 2 of Lycoming MSB 552, dated August 16, 2002, will not be approved.

Special Flight Permits

(h) Special flight permits may be issued in accordance with §§ 21.197 and 21.199 of the Federal Aviation Regulations (14 CFR 21.197 and 21.199) to operate the airplane to a location where the requirements of this AD can be done.

Documents That Have Been Incorporated By Reference

(i) The actions must be done in accordance with the following Lycoming Mandatory Service Bulletin No. 552, dated August 16, 2002. This incorporation by reference was approved by the Director of the Federal Register in accordance with 5 U.S.C. 552(a) and 1 CFR part 51. Copies may be obtained from Lycoming, 652 Oliver Street, Williamsport, PA 17701, U.S.A. Copies may be inspected at the FAA, New England Region, Office of the Regional Counsel, 12 New England Executive Park, Burlington, MA; or at the Office of the Federal Register, 800 North Capitol Street NW., suite 700, Washington, DC.

Effective Date

(j) This amendment becomes effective September 20, 2002.

Issued in Burlington, Massachusetts, on September 16, 2002.
Francis A. Favara,
Acting Manager, Engine and Propeller Directorate, Aircraft Certification Service.

[FR Doc. 02-24030 Filed 9-19-02; 8:45 am]

BILLING CODE 4910-13-P